INTERNATIONAL TRADE COMMISSION

[USITC SE-01-005]

Sunshine Act Meeting

AGENCY HOLDING THE MEETING: United States International Trade Commission.

TIME AND DATE: February 8, 2001 at 11:00 a.m.

PLACE: Room 101, 500 E Street, SW., Washington, DC 20436, Telephone: (202) 205-2000.

STATUS: Open to the public.

MATTERS TO BE CONSIDERED: 1. Agenda for future meeting: None.

2. Minutes.

3. Ratification List.

4. Inv. No. 731-TA-683 (Review)(Fresh Garlic from China)—briefing and vote. (The Commission is currently scheduled to transmit its determination and Commissioners' opinions to the Secretary of Commerce on February 21, 2001.)

5. Inv. No. 731-TA-652 (Review)(Aramid Fiber from the Netherlands)—briefing and vote. (The Commission is currently scheduled to transmit its determination and Commissioners' opinions to the Secretary of Commerce on February 22, 2001.)

6. Outstanding action jackets: None.

In accordance with Commission policy, subject matter listed above, not disposed of at the scheduled meeting, may be carried over to the agenda of the following meeting.

By order of the Commission:
Issued: January 24, 2001.
Donna R. Koehnke,
Secretary.

[FR Doc. 01-2676 Filed 1-26-01; 1:47 pm]

BILLING CODE 7020-02-P